DEPARTMENT OF LABOR

Employment and Training Administration

[TA-W-53,640]

Wormuth Brothers, Athens, NY; Notice of Termination of Investigation

Pursuant to section 221 of the Trade Act of 1974, as amended, an investigation was initiated on November 25, 2003 in response to a petition filed by a company official on behalf of workers at Wormuth Brothers, Athens, New York.

The petitioner has requested that the petition be withdrawn. Consequently, the investigation has been terminated.

Signed at Washington, DC this 23rd day of December, 2003.
Linda G. Poole,
Certifying Officer, Division of Trade Adjustment Assistance.

[FR Doc. 04-655 Filed 1-12-04; 8:45 am]

BILLING CODE 4510-30-P